DEPARTMENT OF COMMERCE

International Trade Administration

(C-507-501)

Certain In-shell Pistachios from the Islamic Republic of Iran: Final Results of Countervailing Duty Administrative Review

AGENCY: Import Administration, International Trade Administration, Department of Commerce.

SUMMARY: On April 7, 2005, the Department of Commerce (the Department) published in the Federal Register its preliminary results in the countervailing duty (CVD) administrative review of certain in-shell pistachios from Iran. See Certain In-shell Pistachios from the Islamic Republic of Iran: Preliminary Results of Countervailing Duty Administrative Review, 70 FR 17653 (Preliminary Results). The Department has now completed this administrative review in accordance with section 751(a) of the Tariff Act of 1930, as amended (the Act).

Based on information received since the Preliminary Results and our analysis of the comments received, the Department has not revised the net subsidy rate for Tehran Negah Nima Trading Company, Inc., trading as Nima Trading Company (Nima), the respondent company in this proceeding. For further discussion of our positions, see the “Issues and Decision Memorandum” from Barbara E. Tillman, Acting Deputy Assistant Secretary for Import Administration, to Joseph A. Spetrini, Acting Assistant Secretary for Import Administration, concerning the “Final Results of Countervailing Duty Administrative Review: Certain In-Shell Pistachios from the Islamic Republic of Iran” (Decision Memorandum) dated September 6, 2005. The final net subsidy rate for the reviewed company is listed below in the section entitled “Final Results of Review.”

EFFECTIVE DATE: September 13, 2005.

FOR FURTHER INFORMATION CONTACT: Darla Brown, AD/CVD Operations, Office 3, Import Administration, U.S. Department of Commerce, Room 4012, 14th Street and Constitution Avenue, NW, Washington, DC 20230; telephone: (202) 482-2786.

SUPPLEMENTARY INFORMATION:

Background

On April 7, 2005, the Department published in the Federal Register its Preliminary Results. We invited interested parties to comment on these results. Since the preliminary results, the following events have occurred.

On May 9, 2005, petitioners¹ submitted a request for a public hearing. On June 24, 2005, we received case briefs from petitioners and Nima. On July 1, 2005, we received rebuttal briefs from petitioners and Nima. On July 25, 2005, Nima informed the Department that it would not be participating in the hearing. On August 11, 2005, the Department extended the time limit for the completion of its final results until September 6, 2005. See Certain In-Shell Pistachios from the Islamic Republic of Iran: Extension of Time Limit for Final Results of Countervailing Duty Administrative Review, 70 FR 46814 (August 11, 2005). On August 15, 2005, a public hearing was held at the Department of Commerce.

In accordance with 19 CFR 351.213(b), this administrative review covers only those producers or exporters for which a review was specifically requested. Accordingly, this administrative review covers Nima and its grower, Razi Domghan Agricultural and Animal Husbandry Company (Razi) and ten programs for the period of review (POR) January 1, 2003, through December 31, 2003.

¹ Petitioners include the California Pistachios Commission (CPC) and its members and a domestic interested party, Cal Pure Pistachios, Inc. (Cal Pure).

Scope of the Order

For purposes of this order, the product covered is in-shell pistachio nuts from which the hulls have been removed, leaving the inner hard shells and edible meat, as currently classifiable in the Harmonized Tariff Schedules of the United States (HTSUS) under item number 0802.50.20.00. The HTSUS subheadings are provided for convenience and customs purposes. The written description of the scope is dispositive.

Analysis of Comments Received

For a discussion of the programs and the issue raised in the case and rebuttal briefs by parties to this review, see the Decision Memorandum, which is hereby adopted by this notice. A listing of the issue which parties raised and to which we have responded, which is in the Decision Memorandum, is attached to this notice as Appendix I. Parties can find a complete discussion of the issue raised in this review and the corresponding recommendation in this public memorandum, which is on file in the Central Records Unit (CRU), room B-099 of the main Commerce building. In addition, a complete version of the Decision Memorandum can be accessed directly on the World Wide Web at http://ia.ita.doc.gov, under the heading “Federal Register Notices.” The paper copy and electronic version of the Decision Memorandum are identical in content.

Final Results of Review

In accordance with section 777A(e)(1) of the Act and 19 CFR 351.221(b)(5), we calculated an ad valorem subsidy rate for Nima for calendar year 2003.

Producer/Exporter | Net Subsidy Rate
Tehran Negah Nima Trading Company, Inc., trading as Nima Trading Company (Nima) and Razi Domghan Agricultural and Animal Husbandry Company (Razi) | 0.00 percent ad valorem

As Nima is the exporter but not the producer of subject merchandise, the Department's final results of review apply to subject merchandise exported by Nima and produced by Nima's supplier of pistachios, Razi. See 19 CFR 351.107(b) (providing that the Department may establish a combination rate for each combination of exporter and its supplying producer).

Therefore, we will issue the following cash deposit requirements, within 15 days of publication of the final results of the instant review, for all shipments of subject merchandise entered, or withdrawn from warehouse, for consumption on or after the date of publication: (1) for merchandise exported by Nima and produced by Razi, the cash deposit rate will be 0.00 percent ad valorem, i.e., the rate calculated in the final results of the instant administrative review; (2) for merchandise exported by Nima and produced by Maghsoudi Farms, the cash deposit rate will be 23.18 percent, the rate calculated for Nima and Maghsoudi Farms in the new shipper reviews (see Certain In-Shell Pistachios (C-507-501) and Certain Roasted In-Shell Pistachios (C-507-601) from the Islamic Republic of Iran: Final Results of New Shipper Countervailing Duty Reviews, 68 FR 4997 (January 31, 2003) (New Shipper Reviews); (3) for merchandise exported by Nima but not produced by Razi or Maghsoudi Farms, the cash deposit rate will be the “all others” rate established in the original CVD investigation (see 51 FR 8344 (March 11, 1986)); (4) if the exporter is not a firm covered in this review, a prior review, or the original CVD investigation, but the producer is, the cash deposit rate will be the rate established for the most recent period for the producer of the merchandise; and (5) if neither the exporter nor producer is a firm covered in this review or the original investigation, the cash deposit rate for all other producers or exporters of the subject merchandise will continue to be 99.52 percent ad valorem. This rate is the “all others” rate from the final determination in the original investigation.

This notice also serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This administrative review and this notice are issued and published in accordance with sections 751(a)(1) and 777(i) of the Act.

Dated: September 6, 2005.
Joseph A. Spetrini,
Acting Assistant Secretary for Import Administration.

Appendix I - Issues and Decision Memorandum

I. ANALYSIS OF PROGRAMS

A. Programs Determined to Be Not Used

1. Provision of Fertilizer and Machinery

2. Provision of Credit

3. Tax Exemptions

4. Provision of Water and Irrigation Equipment

5. Technical Support

6. Duty Refunds on Imported Raw or Intermediate Materials Used in the Production of Export Goods

7. Program to Improve Quality of Exports of Dried Fruit

8. Iranian Export Guarantee Fund

9. GOI Grants and Loans to Pistachio Farmers

10.Crop Insurance for Pistachios

II. TOTAL AD VALOREM RATE

III. ANALYSIS OF COMMENTS

Comment 1: Use of Adverse Facts Available

[FR Doc. E5-4994 Filed 9-12-05; 8:45 am]

BILLING CODE 3510-DS-S